DEPARTMENT OF TRANSPORTATION

Pipeline and Hazardous Materials Safety Administration

Hazardous Materials: Notice of Application for Special Permits

AGENCY: Office of Hazardous Materials Safety, Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 13, 2016.

ADDRESSES: Address Comments To: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http.regulations.gov.

This notice of receipt of applications for special permit is published in accordance with Part 107 of the Federal hazardous materials transportation law (49 U.S.C. 5117(b); 49 CFR 1.53(b)).

Issued in Washington, DC, on April 21, 2016.
Donald Burger,
Chief, General Approvals and Permits.

Application No. | Docket No. | Applicant | Regulation(s) affected | Nature of the special permits thereof
20222-N |  | Trinity Containers, LLC | 178.337-3 (g)(3) | To authorize the transportation in commerce of certain DOT Specification MC-331 cargo tank motor vehicles with a water capacity greater than 3,500 gallons, manufactured to the DOT MC-331 specification, constructed of non-quenched and tempered (“NQT”) steel except that the cargo tanks have baffle support clips welded directly to the inside of the cargo tank wall without the use of pads.
20223-N |  | A & P Helicopters, Inc | 175.1(a), 172.101(j), 172.200, 172.300, 173.1, 172.400 | To authorize the transportation in commerce of certain hazardous materials by 14 CFR part 133 Rotorcraft External Load Operations transporting hazardous materials attached to or suspended from an aircraft in remote areas of the U.S. only.
20225-N |  | Alaska Air Taxi, LLC | 173.62(c), 172.101(j) | To authorize the transportation in commerce of certain Class 1 explosive materials which are Forbidden for transportation by cargo aircraft within the state of Alaska when other means of transportation are impractical or not available.
20226-N |  | Awesome Flight, LLC | 173.27(b)(3) | To authorize the transportation of lithium ion batteries in excess of the authorized quantity limitations via passenger and cargo aircraft.
20228-N |  | Worthington Cylinder Corporation | 173.302(f)(3), 173.302(f)(4), 173.302(f)(5), 173.302a (a)(1), 173.304a(a)(1), 175.501(e)(3) | To authorize the manufacture, marking, sale, and use of non-DOT specification fully wrapped carbon fiber reinforced steel lined cylinders for the transportation in commerce.
20232-N |  | Leidos Biomedical Research, Inc | 173.196(c) | To authorize the transportation in commerce of live animals infected with Category B infectious substances.

[FR Doc. 2016-10940 Filed 5-11-16; 8:45 am]

BILLING CODE 4909-60-M